DEPARTMENT OF AGRICULTURE

Food and Nutrition Service

Agency Information Collection Activities: Proposed Collection; Comment Request—Supplemental Nutrition Assistance Program Education (SNAP-Ed) Intervention Submission Form and Scoring Tool

AGENCY: Food and Nutrition Service (FNS), Department of Agriculture (USDA).

ACTION: Notice and request for comments.

SUMMARY: In accordance with the Paperwork Reduction Act of 1995, this notice invites the general public and other public agencies to comment on this proposed revision to the currently approved information collection for the Supplemental Nutrition Assistance Program (SNAP) FNS-885, “SNAP Education (SNAP-Ed) Intervention Scoring Tool” and the FNS-886, “SNAP Education (SNAP-Ed) Intervention Submission Form.” This revision to forms FNS-885 and FNS-886 will provide an improved user experience by simplifying scoring criteria and clarifying the information requested for certain fields. These updates will also align with the new SNAP-Ed National Program Evaluation and Reporting System (N-PEARS), to ensure consistency with SNAP-Ed specific terms. More information on changes to these forms is in the Supplementary Information section of this notice.

DATES: Comments on this notice must be received on or before April 2, 2024 to be assured of consideration.

ADDRESSES: Comments may be sent to Aurora Calvillo Buffington, Food and Nutrition Service, Supplemental Nutrition Assistance Program, Program Administration and Nutrition Division, 1320 Braddock Place, 5th Floor, Alexandria, VA 22314. Comments may also be submitted via email to SNAP-Ed@usda.gov or through the Federal eRulemaking Portal. Go to http://www.regulations.gov, and follow the online instructions for submitting comments electronically.

All responses to this notice will be summarized and included in the request for Office of Management and Budget approval. All comments will become a matter of public record.

FOR FURTHER INFORMATION CONTACT: Requests for additional information or copies of this information collection should be directed to Divyani Pendleton at 703-305-2031 or Divyani.Pendleton@usda.gov.

SUPPLEMENTARY INFORMATION: Comments are invited on: (a) whether the proposed collection of information is necessary for the proper performance of agency functions, including whether the information shall have practical utility; (b) the accuracy of the agency's estimate of the burden of the proposed collection of information, including the validity of the methodology and the assumptions used; (c) ways to enhance the quality, utility, and clarity of the information to be collected; and (d) ways to minimize the burden of the collection of information on those who respond, including use of appropriate automated, electronic, mechanical, or other technology.

Title: SNAP-Ed Intervention Scoring Tool and SNAP-Ed Intervention Submission Form.

Form Number: FNS-885 and FNS-886.

OMB Number: 0584-0639.

Expiration Date: 9/30/2024.

Type of Request: Revision of a currently approved collection.

Abstract: The Food and Nutrition Act of 2008, as amended (the Act) § 28(c)(3)(A) states that State agencies “may use funds provided under this section for any evidence-based allowable use of funds” including “(i) individual and group-based nutrition education, health promotion, and intervention strategies; (ii) comprehensive, multilevel interventions at multiple complementary organizational and institutional levels; and (iii) community and public health approaches to improve nutrition.” 7 CFR 272.2(d)(2)(vii)(D) states “SNAP-Ed activities must include evidence-based activities using two or more of these approaches: individual or group-based nutrition education, health promotion, and intervention strategies; comprehensive, multi-level interventions at multiple complementary organizational and institutional levels; community and public health approaches to improve nutrition and physical activity.”

The SNAP-Ed Strategies and Interventions: An Obesity Prevention Toolkit for States (SNAP-Ed Toolkit) was developed collaboratively by FNS National and Regional Office SNAP-Ed staff, the National Collaborative on Childhood Obesity Reduction (NCCOR), and the Association of SNAP Nutrition Education Administrators (ASNNA). Currently, more than 150 interventions are available on the SNAP-Ed Toolkit website https://snapedtoolkit.org/. State agencies use the SNAP-Ed Toolkit to locate evidence-based interventions for their implementation of SNAP-Ed programming.

The SNAP-Ed Intervention Submission Form, FNS-886, and the SNAP-Ed Intervention Scoring Tool, FNS-885, provide a uniform and transparent method for submission, review, and scoring of nutrition education, physical activity promotion, and obesity prevention interventions for inclusion in the SNAP-Ed Toolkit. SNAP-Ed State and implementing agencies, nutrition education and public health agencies, and other organizations use these voluntary forms to submit interventions for consideration. The SNAP-Ed Intervention Submission Form and Scoring Tool make it possible for SNAP-Ed implementers and the review committee to determine if the intervention submitted for inclusion in the SNAP-Ed Toolkit is evidence-based and uses one or more of the required approaches. These forms support FNS efforts to increase the selection of interventions available in the SNAP-Ed Toolkit, improve innovation in service delivery using interventions which reflect the latest research, and respond directly to entities submitting interventions (submitters) for the SNAP-Ed Toolkit.

The collection of this information for the submission, review, and scoring of nutrition education, physical activity promotion, and obesity prevention interventions for inclusion in the SNAP-Ed Toolkit is necessary to:

—Provide agencies with an increased selection of interventions to fit their specific needs.

—Increase innovation in service delivery by encouraging adoption of interventions which reflect the latest research on nutrition education, physical activity, and obesity prevention behavior change.

—Allow FNS to respond to each submitter's requests to include their intervention in the SNAP-Ed Toolkit using a clear and transparent review process and inclusion criteria.

Submitters use the FNS-886, SNAP-Ed Intervention Submission Form, to provide information about the intervention they are submitting for inclusion in the SNAP-Ed Toolkit. Information requested includes intervention materials, (such as materials used to develop and test the intervention, evaluation materials, or reports), how these materials have been and will be used, and the evidence base which illustrates their effectiveness. The FNS-886 captures this information through a combination of multiple-choice boxes and text response areas.

Submitters are members of State or implementing agencies, researchers from academic institutions and Federal agencies, and non-profit or private sector nutrition education and physical activity intervention developers.

FNS collects SNAP-Ed Intervention Submission Forms and attachments and distributes them via email to intervention reviewers. Reviewers include relevant FNS staff, relevant staff from other Federal agencies, such as the Centers for Disease Control and Prevention (CDC), researchers from academic institutions, and SNAP-Ed State and implementing agency staff. Reviewers use the Scoring Tool to assess and rate each submission for inclusion in the SNAP-Ed Toolkit. Information from reviewers is collected through a combination of numerical and text entry fields.

FNS will accept interventions to the SNAP-Ed Toolkit in FY 2024. The intervention submission and review period occur biennially.

FNS updated the forms and burden estimates based on consultations with SNAP-Ed State and implementing agency partners, other Federal agencies, and users of the forms. FNS has refined and streamlined the forms where real-world use has indicated this is possible, and included additional instructions, questions, or opportunities for response where users, trainers, and FNS partners indicated areas for improvement. FNS has also made wording changes to fix typographical errors and improve readability. Overall, the changes to the forms are focused on form improvements for the end user.

The following updates to the FNS-886, SNAP-Ed Intervention Submission Form are proposed:

1. Restructuring, formatting, and wording edits to all sections.

2. In Section I, Intervention Name and Contact Information, move three questions related to costs and materials to Section VI, Training, Materials, and Resources.

3. In Section II, Intervention Overview, remove “Breastfeeding” and “Food Insecurity” and add “Food Resource Behaviors” as a Target Behavior category, remove four questions on evaluation and evidence base, and add a question on the core intervention components.

4. In Section III, Intervention Development, renumber questions due to the insertion of new questions in Section II.

5. In Section IV, Evaluation and Outcomes, add a new question asking submitters to identify tools they used to evaluate their intervention, simplify a question on which outcomes the intervention achieved, and increase the character limit on a question about evidence findings included in the submission. Update section for readability and renumbering to reflect the newly inserted questions.

6. In Section V, Implementation, renumber to reflect newly inserted questions.

7. In Section VI, Training, Materials, and Resources, clarify training that is required to implement the intervention, and renumber to reflect newly inserted questions.

8. In Section VII, Intervention Attachments, add instructions to clarify that submitters should describe how evaluation and modification addressed intervention sustainability concerns, and renumber to reflect newly inserted questions.

9. In Section VIII, Evaluation Attachments, add instructions to help submitters name and reference their attachments throughout the submission form.

The following changes to FNS-885, SNAP -Ed Intervention Scoring Tool, are proposed:

1. Rename and restructure all sections to align with the changes to FNS-886, the SNAP-Ed Intervention Submission Form.

2. In Section I, Intervention Overview and Development, add three questions on (1) the intervention's ability to address the needs of the target population, (2) the target population and community partner involvement in the intervention development, and (3) SNAP-Ed educators, target population, and/or partner involvement in testing the acceptability of the intervention.

3. In Section II, Evaluation and Outcomes, remove “emerging” as an evidence base category from the scoring tool, add a question on the use of behavior change theories in the intervention development, and clarify the scoring of intended outcomes and alignment with the SNAP-Ed Evaluation Framework.

4. In Section III, Implementation, make minor wording clarifications across questions, and add a question on adaptability of the interventions.

5. In Section IV, Training, Materials and Resources, edit questions for clarity and remove one question on interventions adopted by partners in settings not directly supported by SNAP-Ed.

6. In the Bonus Questions, update the list of populations and settings that are currently underrepresented in the SNAP-Ed Toolkit.

Reporting

Affected Public: The affected public for the FNS-886 and FNS-885 forms includes 50 SNAP-Ed State and implementing agencies (37 State/Local/Tribal Governments, 10 non-profit organizations, and 3 for-profit organizations.

Estimated Number of Respondents: The estimated number of respondents is 50. The estimated number of respondents for the Intervention Submission Form is 28 respondents (22 State/Local/Tribal Government, 5 non-profit organizations, and 1 for-profit organization). The estimated number of respondents for the Intervention Scoring Tool is 22 respondents (15 State/Local/Tribal Government, 5 non-profit organizations, and 2 for-profit organizations). This estimate is a decrease based on historical submission data and the expectation that fewer interventions may be submitted to the SNAP-Ed Toolkit on a biennial basis.

Estimated Number of Responses per Respondent: This number of responses per respondent is 1.88 responses, based on the estimate of 94 responses from 50 respondents. FNS expects to receive one response for the Intervention Submission Form, 2 responses for the Intervention Scoring Tool and, 1 required training for the Intervention Scoring Tool. This estimate is unchanged from the previous OMB approval.

Estimated Total Annual Responses: The revised total annual responses is 94, which is a reduction to the current estimated total annual responses of 160 responses. This estimate is a decrease based on historical submission data and expectation that fewer interventions may be submitted to the SNAP-Ed Toolkit on a biennial basis.

Estimated Time per Response: The revised estimated time per response for this voluntary collection is 5.5 hours for the Intervention Submission Form and 3 hours for the Intervention Scoring Tool. This estimate was calculated based on feedback from the stakeholder consultation group. Estimates were averaged based on stakeholder feedback; any data outliers were not included in this estimate. This reflects an increase from the current estimate of 2 hours for the Intervention Submission Form and a decrease from the current estimate of 6 hours for the Intervention Scoring Tool.

Estimated Total Annual Burden on Respondents: The revised estimated total biennial burden on respondents for this voluntary collection is 353 hours, as this voluntary collection receives responses on a biennial basis. The revised estimated total annual burden on respondents for this voluntary collection is 176.5 hours. This revised estimate is a reduction from the current estimated total annual burden of 523 hours. This revised estimate is a decrease based on historical submission data and expectation that fewer interventions may be submitted to the SNAP-Ed Toolkit on a biennial basis.

There are no recordkeeping or third-party/disclosure requirements associated with this information collection.

Burden Estimate Table
Respondent category | Burden activity | Form | Estimated number of respondents | Responses per respondent | Total annual responses | Estimated hours per response | Estimated total burden hours
State/Local/Tribal Government | Completing intervention submission form | FNS-886 | 22 | 1 | 22 | 5.5 | 121.0
| Completing intervention scoring tool | FNS-885 | 15 | 2 | 30 | 3 | 90.0
| Training for intervention scoring tool | FNS-885 | 15 | 1 | 15 | 1 | 15.0
Subtotal: State/Local/Tribal Government |  |  | 37 |  | 67 |  | 239.0
Business, Non-Profit | Intervention Submission Form | FNS-886 | 5 | 1 | 5 | 5.5 | 27.5
| Scoring Tool | FNS-885 | 5 | 2 | 10 | 3 | 30.0
| Scoring Tool (Training) | FNS-885 | 5 | 1 | 5 | 1 | 5.0
Subtotal: Business, Non-Profit |  |  | 10 |  | 20 |  | 91.5
Business, Profit | Intervention Submission Form | FNS-886 | 1 | 1 | 1 | 5.5 | 5.5
| Scoring Tool | FNS-885 | 2 | 2 | 4 | 3 | 12.0
| Scoring Tool (Training) | FNS-885 | 2 | 1 | 2 | 1 | 2.0
Subtotal: Business, Profit |  |  | 3 |  | 7 |  | 22.5
Total |  |  | 50 | 1.8800 | 94 | 3.7553 | 353.0

Tameka Owens,
Assistant Administrator, Food and Nutrition Service.

[FR Doc. 2024-02064 Filed 2-1-24; 8:45 am]

BILLING CODE 3410-30-P